DEPARTMENT OF THE INTERIOR

Bureau of Land Management

[LLIDI02000.L71220000.EO0000LVTFD0980300; IDI-36468]

Notice of Realty Action: Proposed Sale of Public Land in Caribou Co., ID

AGENCY: Bureau of Land Management, Interior.

ACTION: Notice of realty action.

SUMMARY: The Bureau of Land Management (BLM) is proposing to sell a parcel of public land totaling 1,142.10 acres in Caribou County, Idaho by direct sale under the provisions of the Federal Land Policy and Management Act of 1976 (FLPMA). The land would be sold for not less than fair market value.

DATES: In order to ensure consideration in the environmental analysis of the proposed sale, comments must be received by May 28, 2010.

ADDRESSES: Address all comments concerning this notice to Field Manager, Bureau of Land Management (BLM), Pocatello Field Office, 4350 Cliffs Drive, Pocatello, Idaho 83204.

FOR FURTHER INFORMATION CONTACT: Jan Parmenter, Resource Coordinator, 1405 Hollipark Drive, Idaho Falls, Idaho 83401 or phone (208) 524-7562.

SUPPLEMENTARY INFORMATION: The following-described public land in Caribou County, Idaho, is being proposed for sale under the authority of Section 203 of the FLPMA (43 U.S.C. 1713):

Boise Meridian

T. 9 S., R. 44 E.,

Sec. 6, lots 3 to 7, inclusive, SWNE, SENW, E2SW, SE;

Sec. 7, lot 1, NE, E2NW, SE;

Sec. 17, lots 1 and 2, S2NE.

The area described contains 1,142.10 acres in Caribou County.

The J. R. Simplot Company submitted the Dairy Syncline Mine and Reclamation Plan (MRP) application to the BLM on October 6, 2008, for the Dairy Syncline Phosphate Lease Area. The MRP is currently under review by the BLM, and an environmental impact statement (EIS) will be prepared pursuant to the requirements of the National Environmental Policy Act to determine and analyze the impacts of the MRP as well as the proposed land sale.

According to the applicant, the parcel is a necessary component of the applicant's development of existing Federal mineral leases. Disposal of mill tailings is a critical aspect of the Dairy Syncline MRP, rendering the land identified for sale an integral part of the MRP. Disposal of mill tailings would require a tailings pond, an ore tailings line from the mill to the tailings pond, as well as a water main return pipeline from the tailings pond to the mill. These are all necessary components of the MRP and would occur on the lands proposed for direct sale. Without the lands proposed for sale, mineral development under this specific phosphate lease could be adversely affected.

The current 1988 BLM Pocatello Resource Management Plan (RMP) does not identify this parcel of public land for disposal; however, this plan is currently undergoing revision and includes alternatives addressing land tenure adjustments which do identify this parcel of public land for disposal. An amendment to the current 1988 plan may be necessary if the BLM ultimately decides to convey this parcel prior to the completion of the revision of this plan.

Conveyance of the identified public lands would be subject to valid existing rights and encumbrances of record, including but not limited to, rights-of-way for roads and public utilities. The conveyance would also be subject to an appropriate indemnification provision protecting the United Sates from claims arising out of the patentee's use, occupancy, or occupation on the patented lands. Conveyance of any mineral interests pursuant to Section 209 of the FLPMA will be analyzed during processing of the proposed sale.

The proposed direct sale is allowable pursuant to 43 CFR 2711-3.3(a)(2) and (a)(3). Specifically, the proposed sale is an integral part of the mineral lease development at the Dairy Syncline Phosphate Lease Area. According to the applicant, the economic viability of this project is dependent upon the successful transfer of this land through sale to the mineral lessee. The mineral lessee would suffer substantial economic loss if the proposed sale tracts were purchased by another party or if the tracts were made unavailable for sale or exchange.

The land proposed for sale would not be sold unless the BLM ultimately issues an approval for a mine and reclamation plan that includes this land as a component necessary for operation of the mine and development of the Federal mineral leases. On April 13, 2010, the above-described land will be segregated from all forms of appropriation under the public land laws, including the mining laws and mineral leasing laws, except the sale provisions of the FLPMA. Until completion of the sale or termination of the segregation, the BLM is no longer accepting land use applications affecting the identified public land, except applications for the amendment of previously filed right-of-way applications or existing authorizations to increase the term of the grants in accordance with 43 CFR 2807.15 and 2886.15.

The segregative effect will terminate upon issuance of a patent or other conveyance document, publication in the Federal Register of a termination of the segregation, or on April 13, 2012, whichever occurs first, unless the segregation period is extended by the BLM State Director in accordance with 43 CFR 2711.1-2(d) prior to the termination date.

Public Comments: For a period until May 28, 2010, interested parties and the general public may submit written comments concerning the land proposed for sale, including notification of any encumbrances or other claims relating to the identified land, to Field Manager, BLM Pocatello Field Office, at the above address. In order to ensure consideration in the environmental analysis of the proposed sale, comments must be in writing and postmarked or delivered within 45 days of the initial date of publication of this Notice. Comments transmitted via e-mail will not be accepted. Comments, including names and street addresses of respondents, will be available for public review at the BLM Pocatello Field Office during regular business hours, except holidays.

Individual respondents may request confidentiality. Before including your address, phone number, e-mail address, or other personal identifying information in your comment, you should be aware that your entire comment—including your personal identifying information—may be made publicly available at any time. While you can ask us in your comment to withhold your personal identifying information from public review, we cannot guarantee that we will be able to do so.

Authority: 43 CFR 2711.1-2.

Dated: April 8, 2010.
David A. Pacioretty,
Pocatello Field Manager.

[FR Doc. 2010-8390 Filed 4-12-10; 8:45 am]

BILLING CODE 4310-GG-P